FEDERAL COMMUNICATIONS COMMISSION

Public Information Collections Approved by Office of Management and Budget

October 26, 2007.

The Federal Communications Commission (FCC) has received Office of Management and Budget (OMB) approval for the following public information collections pursuant to the Paperwork Reduction Act of 1995, Public Law 104-13. An agency may not conduct or sponsor and a person is not required to respond to a collection of information unless it displays a currently valid control number. For further information contact Cheryl B. Williams, Federal Communications Commission, (202) 418-0497 or via the Internet at CherylB.Williams@fcc.gov.

OMB Control No.: 3060-0106.

Expiration Date: 5/31/2010.

Title: Part 43—Reporting Requirements for U.S. Providers of International Telecommunications Services.

Form No.: N/A.

Estimated Annual Burden: 134 respondents; 134 responses; 2,412 total annual hours; 18 hours per respondent.

Needs and Uses: U.S. providers of international telecommunications services must comply with the Federal Communications Commission's reporting requirements pursuant to 47 CFR 43.53, 43.61 and 43.82. The Commission's primary goal underlying the reporting requirements for international carriers has been and continues to be the protection of U.S. consumers and carriers from potential harm caused by instances of insufficient competition caused by the exercise of market power by foreign incumbent carriers. The Commission's goals in regulating the U.S.-international marketplace have been (1) to promote effective competition in the global market for communications services; (2) to prevent anticompetitive conduct in the provision of international services or facilities; and, (3) to encourage foreign governments to open their communications markets. The Commission's ability to respond to failures in the U.S.-international market depends upon having adequate information about the market. The Commission uses the information provided by the traffic and revenue reports and the circuit-status report to ensure compliance with its international rules and policies.

If the information collection was not conducted or was conducted less frequently, the Commission would not be able to ensure compliance with its international rules and policies. Furthermore, the Commission would not have sufficient information to take measures to prevent anticompetitive conduct in the provision of international communications services. The Commission would not be able to promote effective competition in the global market for communications services. The lack of effective competition would adversely affect the U.S. revenues in the telecommunications industry. The agency would not be able to comply with the international regulations stated in the World Trade Organization (WTO) Basic Telecom Agreement.

OMB Control No.: 3060-0572.

Expiration Date: 5/31/2010.

Title: Filing Manual for Annual International Circuit Status Reports.

Form No.: N/A.

Estimated Annual Burden: 138 respondents; 138 responses; 1,300 total annual hours; 11 hours average per respondent.

Needs and Uses: The Federal Communications Commission obtains circuit status reports from international carriers pursuant to 47 CFR Section 43.82 of the Commission's rules. The information compiled by the Commission from the reports is useful to current industry members, potential new entrants into the industry, and the Commission. The information is aggregated and published by the Commission for the use and benefit of all industry members. The information is critically important for U.S. carriers in the preparation of their international business plans, in monitoring for nondiscriminatory provisioning of circuits by U.S. and foreign carriers, particularly in markets dominated by incumbent foreign carriers, and for determining the availability of capacity, or the lack thereof, for market entry and expansion decisions. The information will aid the industry in determining competitive opportunities and thereby supports the Commission's efforts to achieve a more competitive international telecommunications marketplace. In addition, the information will allow the Commission to comply with the statutory requirements of the Omnibus Budget Reconciliation Act of 1993. Without this information, the Commission's efforts to achieve a more competitive international telecommunications marketplace will be impeded. Also, the Commission would not have the information necessary to comply with its statutory requirements under the Omnibus Budget Reconciliation Act of 1993.

In addition, Congress mandated the Commission to collect annual regulatory fees on active equivalent 64 kilobits international circuits. Without such information, the Commission would not be able to fulfill its statutory obligation.

OMB Control No.: 3060-0955.

Expiration Date: 2/28/2010.

Title: 2 GHz Mobile Satellite Service Reports.

Form No.: N/A.

Estimated Annual Burden: 9 respondents; 9 responses; 27 total annual hours; 3 hours per response.

Needs and Uses: The Federal Communications Commission collects information under OMB Control No. 3060-0955 pursuant to 47 C.F.R. Sections 25.114, 25.115, 25.133, 25.136, 25.137, 25.143, 25.202, 25.203 and 25.279. The information is used by the Commission in carrying out its duties under the Communications Act of 1934, as amended, and to insure the public interest, safety and convenience are served. Without such information, the Commission could not determine whether to permit the respondent to provide telecommunication services in the U.S. and therefore fulfill its statutory and responsibilities in accordance with the Communications Act of 1934, as amended.

OMB Control No.: 3060-0994.

Expiration Date: 1/31/2010.

Title: Flexibility for Delivery of Communications by Mobile Satellite Service Providers in the 2 GHz Band, L Band and the 1.6/2.4 GHz Band

Form No.: N/A.

Estimated Annual Burden: 161 respondents; 161 responses; 1,326 total annual hours; .50 hours per response.

Needs and Uses: The Federal Communications Commission (“Commission”) collects information from Mobile Satellite Service (MSS) providers pursuant to 47 CFR 25.149. This information is used by the Commission to license commercial satellite services in the United States. Without the collection of information that would result from these final rules, the Commission would not have the necessary information to grant entities the authority to operate commercial satellite stations and provide telecommunications services to consumers. Additionally, American consumers would be adversely impacted by the lack of telecommunications services.

OMB Control No.: 3060-1007.

Expiration Date: 7/31/2010.

Title: Streamlining and Other Revisions of Part 25 of the Commission's Rules.

Form No.: N/A.

Estimated Annual Burden: 28 respondents; 28 responses; 9,688 total annual hours; 1 hour estimated time per response.

Needs and Uses: This collection is used by the Commission staff in carrying out its duties concerning satellite communications as required by Section 301, 308, 309 and 310 of the Communications Act, 47 U.S.C. 301, 308, 309, 310. This collection is also used by the Commission staff in carrying out its duties under the World Trade Organization (WTO) Basic Telecom Agreement. The information collection requirements accounted for in this collection are necessary to determine the technical, legal and financial qualifications of applicants or licensees to operate a station, transfer or assign a license, and to determine whether the authorization is in the public interest, convenience and necessity. All satellite applications filed under 47 CFR part 25, whether by U.S. or non-U.S. entities, and regardless of spectrum used, are included in this collection. If the data contained in this collection were collected less frequently or not filed in conjunction with our rules, then the Commission would not be able to streamline its satellite license modification rules and also carry-out its mandate as required by statute. As a result, licensees would not be able to provide services to the public as effectively as they could under the streamlined satellite license modification rules. Therefore, the Commission would be unable to fulfill its statutory responsibilities in accordance with the Communications Act of 1934, as amended, and the obligations imposed on parties to the WTO Basic Telecom Agreement.

OMB Control No.: 3060-1054.

Expiration Date: 2/28/2010.

Title: Application for Renewal of an International Broadcast Station License.

Form No.: FCC Form 422-IB.

Estimated Annual Burden: 10 respondents; 60 responses; 60 total annual burden hours; 6 hours per response.

Needs and Uses: The Federal Communications Commission collects information under OMB Control No. 3060-1054 pursuant to the rules set forth in 47 CFR 73.702, 73.731, 73.732, 73.733, 73.751, 73.753, 73.754, 73.755, 73.759, 73.760, 73.765, 73.781 and 73.782 in order to assign frequencies for use by international broadcast stations, to grant authority to operate such stations and to determine if interference or adverse propagation conditions exist that may impact the operation of such stations. If the Commission did not collect this information, it would not be in a position to effectively coordinate spectrum for international broadcasters or to act for entities in times of frequency interference or adverse propagation conditions. If the Commission did not collect this information, it would not be in a position to effectively coordinate spectrum for international broadcasters or to act for entities in times of frequency interference or adverse propagation conditions. The orderly nature of the provision of international broadcast service would be in jeopardy without the Commission's involvement.

OMB Control No.: 3060-1055.

Expiration Date: 2/28/2010.

Title: Application for Permit to Deliver Programs to Foreign Broadcast Stations.

Form No.: FCC Form 423-IB.

Estimated Annual Burden: 30 respondents; 240 responses; 240 annual hours, 8 hours per respondent.

Needs and Uses: The information collected pursuant to the rules set forth in 47 CFR 73.1001, 73.1010, 73.1015, 73.1020, 73.1120, 73.1125, 73.1150, 73.1201, 73.1202, 73.1210, 73.1212, 73.1213, 73.1215 and 73.350 are applicable to all AM, FM, TV and Class A TV broadcast services, including both commercial and noncommercial stations. If this information were not collected from the respondents on the application form, the Commission would not be able to ensure that commercial and noncommercial radio and television broadcasters meet the legal and technical requirements essential to operate radio and TV stations and to prevent harmful interference among broadcast stations and other telecommunications facilities. Pursuant to 47 CFR 73.3580, broadcasters must keep the public informed of a station's filing of an application or amendment by advertisements in local newspapers. The public is kept abreast of the stations' existence in a local area or plans to locate in a specific local area through such advertisements. Section 73.3580 also requires that certain applications be maintained on file for public inspection at a stated address in the community in which the station is located or is proposed to be located. If the Commission did not collect this information, it would not be able to ensure that broadcast licensees keep the public informed of the existence of broadcast stations in the local area or plans to establish broadcast stations in the local area as well as other pertinent information of interest to the public. Furthermore, the Commission would not be able to ascertain whether the commercial and noncommercial broadcast stations meet various technical and/or legal requirements that are critical to the operations of a broadcast station and to prevent harmful interference to other broadcast stations or telecommunications facilities.

OMB Control No.: 3060-1056.

Expiration Date: 2/28/2010.

Title: Application for an International Broadcast Station License.

Form No.: FCC Form 421-IB.

Estimated Annual Burden: 10 respondents; 120 responses; 120 total annual hours; 12 hours per response.

Needs and Uses: The Federal Communications Commission collects information pursuant to the rules set forth in 47 CFR 73.702, 73.731, 73.732, 73.733, 73.751, 73.753, 73.754, 73.755, 73.759, 73.760, 73.765, 73.781 and 73.782. The Commission uses this information to assign frequencies for use by international broadcast stations, to grant authority to operate such stations and to determine if interference or adverse propagation conditions exist that may impact the operation of such stations. If the Commission did not collect this information, it would not be in a position to effectively coordinate spectrum for international broadcasters or to act for entities in times of frequency interference or adverse propagation conditions.

OMB Control No.: 3060-1057.

Expiration Date: 2/28/2010.

Title: Application for Authority to Construct or Make Changes in an International Broadcast Station.

Form No.: FCC Form 420-IB.

Estimated Annual Burden: 10 respondents; 160 responses; 160 total annual hours; 16 hours per response.

Needs and Uses: The Federal Communications Commission collects information pursuant to the rules set forth in 47 CFR 73.702, 73.731, 73.732, 73.733, 73.751, 73.753, 73.754, 73.755, 73.759, 73.760, 73.765, 73.781 and 73.782. The Commission uses this information to assign frequencies for use by international broadcast stations, to grant authority to operate such stations and to determine if interference or adverse propagation conditions exist that may impact the operation of such stations. If the Commission did not collect this information, it would not be in a position to effectively coordinate spectrum for international broadcasters or to act for entities in times of frequency interference or adverse propagation conditions.

OMB Control No.: 3060-1063.

Expiration Date: 3/31/2010.

Title: Global Mobile Personal Communications by Satellite (GMPCS) Authorization, Marketing and Importation Rules.

Form No.: N/A.

Estimated Annual Burden: 19 respondents; 19 responses; 483 annual burden hours, 24 hours per response.

Needs and Uses: The rule sections applicable to this information collection are Title 47 CFR 1.1307, 2.1033, 2.1204, 25.118, 25.129, 25.132, 25.135, 25.136, 25.138, and 25.216. The Commission requires interested parties to obtain equipment authorization pursuant to the certification procedure in Part 2 of the Commission's rules. The Part 2 certification procedure requires submission of an application (FCC Form 731) and exhibits to the Commission, including test data showing that a representative sample unit of the devices that would be covered by the certification, meets the Commission's applicable technical requirements. The requirement applies to devices imported, sold, leased, shipped, or distributed after November 19, 2004. This information collection includes a certification requirement for portable GMPCS transceivers to prevent interference, reduce radio-frequency (“RF”) radiation exposure risk, and make regulatory treatment of portable GMPCS transceivers consistent with treatment of similar terrestrial wireless devices, such as cellular phones. The Commission is requiring that applicants obtain authorization for the equipment by submitting an application and exhibits, including test data. If the Commission did not obtain such information, it would not be able to ascertain whether the equipment meets the FCC's technical standards for operation in the United States. Furthermore, the data is required to ensure that the equipment will not cause catastrophic interference to other telecommunications services that may impact the health and safety of American citizens.

OMB Control No.: 3060-1066.

Expiration Date: 3/31/2010.

Title: Renewal of Application for Satellite Space and Earth Station Authorization.

Form No.: FCC Form 312-R.

Estimated Annual Burden: 6 respondents; 6 responses; 2,000 annual burden hours, 12 hours per response.

Needs and Uses: Pursuant to 47 CFR 25.121(e) of the Federal Communications Commission's rules, earth station applicants must file the FCC Form 312-R with the Commission in the International Bureau Filing System (IBFS) to request renewals of their licenses. This collection is used by the Commission staff in carrying out its duties concerning satellite communications as required by Section 301, 308, 309 and 310 of the Communications Act, 47 U.S.C. 301, 308, 309, 310. This collection is also used by the Commission staff in carrying out its duties under the World Trade Organization (WTO) Basic Telecom Agreement. Without this collection of information, applicants and licensees would not be able to obtain the authorization necessary to provide telecommunications services; the Commission would not be able to carry-out its mandate as required by statute; and applicants and licensees would not be able to provide services to the public effectively. The Commission would not be able to determine whether the authorization is in the public interest, convenience and necessity.

OMB Control No.: 3060-1067.

Expiration Date: 3/31/2010.

Title: Qualification Questions.

Form No.: FCC Form 312-EZ.

Estimated Annual Burden: 3,872 respondents; 3,872 responses; 38,720 annual burden hours, 10 hours per response.

Needs and Uses: Routine conventional C-band and Ku-band earth station applications eligible for “auto-grant” procedure (non-common carriers) must file the FCC Form 312-EZ with the Commission pursuant to 47 CFR 25.115. This collection is used by the Commission staff in carrying out its duties concerning satellite communications as required by Section 301, 308, 309 and 310 of the Communications Act, 47 U.S.C. 301, 308, 309, 310. This collection is also used by the Commission staff in carrying out its duties under the World Trade Organization (WTO) Basic Telecom Agreement.

The information collection requirements accounted for in this collection are necessary to determine the technical and legal qualifications of applicants or licensees to operate a station, transfer or assign a license, and to determine whether the authorization is in the public interest, convenience and necessity. All “routine” earth station applications that are consistent with all the technical requirements in part 25 applicable to earth stations are included in this collection. Without such information, the Commission could not determine whether to permit respondents to provide telecommunication services in the U.S. Therefore, the Commission would be unable to fulfill its statutory responsibilities in accordance with the Communications Act of 1934, as amended, and the obligations imposed on parties to the WTO Basic Telecom Agreement.

OMB Control No.: 3060-1095.

Expiration Date: 12/31/2009.

Title: Surrenders of Authorizations for International Carrier, Space Station and Earth Station Licensees.

Form No.: N/A.

Estimated Annual Burden: 306 respondents; 306 responses; 306 total annual hours; 1 hour per response.

Needs and Uses: Licensees file surrenders of authorizations with the Commission on a voluntary basis. (Note: There are no specific Commission rules pertaining to surrenders of authorizations because it is voluntary on the part of the licensee). This information is used by Commission staff to issue Public Notices to announce the surrenders of authorization to the general public. The Commission's release of Public Notices is critical to keeping the general public abreast of the licensees' discontinuance of telecommunications services. Without this collection of information, licensees would be required to submit surrenders of authorizations to the Commission by letter which is more time consuming than submitting such requests to the Commission electronically. In addition, Commission staff would spend an extensive amount of time processing surrenders of authorizations received by letter. The collection of information saves time for both licensees and Commission staff since they are received in the International Bureau Filing System (IBFS) electronically and include only the information that is essential to process the requests in a timely manner. Furthermore, the e-filing module expedites the Commission staff's announcement of surrenders of authorizations via Public Notice.

OMB Control No.: 3060-1108.

Expiration Date: 9/30/2010.

Title: Consummation of Assignments and Transfers of Control of Authorization.

Form No.: N/A.

Estimated Annual Burden: 589 respondents; 589 responses; 589 total hours; 1 hour per respondent.

Needs and Uses: Applicants utilize the International Bureau Filing System (IBFS) to inform the Commission of consummations of assignments and transfers of control of authorization for international telecommunications and satellite services, such as International High Frequency (IHF), Section 214 Applications (ITC), Satellite Space Stations (SAT), Submarine Cable Landing Licenses (SCL) and Satellite Earth Station (SES) licenses. The Commission has authority for this information collection pursuant to 47 U.S.C. 154(i) and 47 CFR Sections 1.767, 25.119, 63.24(e)(4), 73.3540 and 73.3541. The information collections are necessary for the Commission to maintain effective oversight of U.S. providers of international telecommunications services that are affiliated with, or involved in certain co-marketing or similar arrangements with, foreign entities that have market power. Without this collection of information, the Commission would not have critical information such as a change in a controlling interest in the ownership of the licensee. The Commission would not be able to carry out its duties under the Communications Act and to determine the qualifications of applicants to provide international telecommunications service, including applicants that are affiliated with foreign entities, and to determine whether and under what conditions the authorizations are in the public interest, convenience, and necessity.

Federal Communications Commission.
Marlene H. Dortch,
Secretary.

[FR Doc. E7-21514 Filed 10-31-07; 8:45 am]

BILLING CODE 6712-01-P